DEPARTMENT OF ENERGY

Federal Energy Regulatory Commission

[Docket No. CP05-211-000]

EnCana Border Pipelines Limited and 1057533 Alberta Ltd.; Notice of Application To Transfer Natural Gas Act Section 3 Authorization and Presidential Permit

May 6, 2005.

On April 29, 2005, EnCana Border Pipelines Limited (EnCana Border) and 1057533 Alberta Ltd. (Alberta Ltd.) filed an application pursuant to section 3 of the Natural Gas Act (NGA) and section 153 of the Commission's Regulations and Executive Order No. 10485, as amended by Executive Order No. 12038, seeking authorization to transfer EnCana Border's existing NGA section 3 authorization and Presidential Permit to Alberta Ltd., all as more fully set forth in the application which is on file with the Commission and which is open to the public for inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

Any questions regarding the application may be directed to: C. Todd Piczak, Esq. Dickstein Shapiro Morin & Oshinsky LLP, 2101 L Street, NW., Washington DC 20037 or call (202) 833-7033 or Patricia F. Godley, VanNess Feldman, P.C., 1050 Thomas Jefferson Street, NW., Washington DC 20007 or call (202) 298-1940.

Specifically, EnCana (formerly 3698157 Canada Ltd.) and Alberta Ltd. request the Commission to issue an order: (1) Transferring NGA section 3 authorization for the operation and maintenance of facilities for the importation of natural gas from the Province of Saskatchewan, Canada, into Montana; and (2) authorizing the assignment of EnCana's January 11, 2001 Presidential Permit for the operation and maintenance of facilities at the Saskatchewan, Canada/Montana import point.

The import facilities consist of (1) a gas meter station in LSD 5-4-1-14 W3M adjacent to Highway 4 approximately 0.5 mile north of the Village of Monchy, Saskatchewan; and (2) a 219.1 mm O.D. pipeline located directly south of this meter station across the Canada-United States border at Section 6 T37N R30E, extending a distance of approximately 2438 feet. The pipeline crosses the International Boundary and interconnects with a gathering line owned by EnCana Energy Resources, Inc. in Montana.

EnCana and Alberta Ltd. state that the requested transfer and assignment would facilitate the sale of facilities pursuant to a purchase and sale agreement between EnCana and Alberta.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See 18 CFR 385.2001(a)(1)(iii) and the instructions on the Commission's Web site (http://www.ferc.gov) under the “e-Filing” link.

Comment Date: May 27, 2005.

Magalie R. Salas,
Secretary.

[FR Doc. E5-2356 Filed 5-11-05; 8:45 am]

BILLING CODE 6717-01-P